DEPARTMENT OF THE INTERIOR

National Park Service

[NPS-WASO-NAGPRA-NPS0034492; PPWOCRADN0-PCU00RP14.R50000]

Notice of Inventory Completion: Peabody Museum of Archaeology and Ethnology, Harvard University, Cambridge, MA

AGENCY: National Park Service, Interior.

ACTION: Notice.

SUMMARY: In accordance with the Native American Graves Protection and Repatriation Act (NAGPRA), the Peabody Museum of Archaeology and Ethnology, Harvard University, has completed an inventory of associated funerary objects and has determined that there is a cultural affiliation between the associated funerary object and Indian Tribes or Native Hawaiian organizations in this notice. The associated funerary object was removed from Barnstable County, MA.

DATES: Repatriation of the associated funerary object in this notice may occur on or after October 12, 2022.

ADDRESSES: Patricia Capone, Curator and NAGPRA Director, Peabody Museum of Archaeology and Ethnology, Harvard University, 11 Divinity Avenue, Cambridge, MA 02138, telephone (617) 496-3702, email pcapone@fas.harvard.edu.

SUPPLEMENTARY INFORMATION: This notice is published as part of the National Park Service's administrative responsibilities under NAGPRA. The determinations in this notice are the sole responsibility of the Peabody Museum of Archaeology and Ethnology, Harvard University. The National Park Service is not responsible for the determinations in this notice. Additional information on the determinations in this notice, including the results of consultation, can be found in the inventory or related records held by the Peabody Museum of Archaeology and Ethnology, Harvard University.

Description

The human remains associated with this funerary object were included in a Notice of Inventory Completion published in the Federal Register on August 14, 2003 (68 FR 48626-48634, August 14, 2003). Subsequently, these human remains were transferred to the Wampanoag Tribe of Gay Head (Aquinnah).

In 1891, one associated funerary object was removed from North Truro in Barnstable County, MA, during a Peabody Museum of Archaeology and Ethnology expedition led by Marshall H. Saville. The one associated funerary object is a small, likely shell-tempered ceramic sherd.

Cultural Affiliation

The associated funerary object in this notice is connected to one or more identifiable earlier groups, tribes, peoples, or cultures. There is a relationship of shared group identity between the identifiable earlier groups, tribes, peoples, or cultures and one or more Indian Tribes or Native Hawaiian organizations. The following types of information were used to reasonably trace the relationship: archeological, geographical, historical, and oral traditional.

Determinations

Pursuant to NAGPRA and its implementing regulations, and after consultation with the appropriate Indian Tribes and Native Hawaiian organizations, the Peabody Museum of Archaeology and Ethnology, Harvard University has determined that:

• The one object described in this notice is reasonably believed to have been placed with or near individual human remains at the time of death or later as part of the death rite or ceremony.

• There is a relationship of shared group identity that can be reasonably traced between the associated funerary object described in this notice and the Mashpee Wampanoag Tribe (previously listed as Mashpee Wampanoag Indian Tribal Council, Inc.) and the Wampanoag Tribe of Gay Head (Aquinnah), who are the present-day Indian Tribes that represent people of Wampanoag descent.

Requests for Repatriation

Written requests for repatriation of the associated funerary object in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the associated funerary object in this notice to a requestor may occur on or after October 12, 2022. If competing requests for repatriation are received, the Peabody Museum of Archaeology and Ethnology, Harvard University, must determine the most appropriate requestor prior to repatriation. Requests for joint repatriation of the associated funerary object are considered a single request and not competing requests. The Peabody Museum of Archaeology and Ethnology is responsible for sending a copy of this notice to the Indian Tribes and Native Hawaiian organizations identified in this notice.

Authority: Native American Graves Protection and Repatriation Act, 25 U.S.C. 3003, and the implementing regulations, 43 CFR 10.9, § 10.10, and § 10.14.

Dated: August 31, 2022.
Melanie O'Brien,
Manager, National NAGPRA Program.

[FR Doc. 2022-19618 Filed 9-9-22; 8:45 am]

BILLING CODE 4312-52-P